NEIGHBORHOOD REINVESTMENT CORPORATION

Sunshine Act Meeting; Finance, Budget & Program Committee Meeting of the Board of Directors

TIME & DATE: 12:00 p.m., Monday, November 17, 2014

PLACE: NeighborWorks America—Gramlich Boardroom, 999 North Capitol Street NE., Washington DC 20002

STATUS: Open (with the exception of Executive Session)

CONTACT PERSON: Jeffrey Bryson, General Counsel/Secretary, (202) 760-4101; jbryson@nw.org.

AGENDA:

I. Call to Order

II. Executive Session: Transition Update

III. Executive Session: Bank of America Settlement Update

IV. Success Measures Data Systems Approval

V. Sustainable Homeownership Procurement

VI. Organizational Underwriting & Grants to Network

VII. New Strategic Plan

VIII. Financial Report

IX. Management Updates

X. Adjournment

Jeffrey T. Bryson,
EVP & General Counsel/Corporate Secretary.

[FR Doc. 2014-26849 Filed 11-7-14; 4:15 pm]

BILLING CODE 7570-02-P